DEPARTMENT OF ENERGY

Federal Energy Regulatory Commission

[Docket No. PF17-9-000]

Fourchon LNG LLC; Notice of Intent To Prepare an Environmental Impact Statement for The Planned Fourchon Lng Project, Request for Comments on Environmental Issues, and Notice of Public Scoping Session

The staff of the Federal Energy Regulatory Commission (FERC or Commission) will prepare an environmental impact statement (EIS) that will discuss the environmental impacts of the Fourchon LNG Project involving construction and operation of facilities by Fourchon LNG LLC (Fourchon LNG)] in Lafourche Parish, Louisiana. The Commission will use this EIS in its decision-making process to determine whether the project is in the public interest.

This notice announces the opening of the scoping process the Commission will use to gather input from the public and interested agencies on the project. You can make a difference by providing us with your specific comments or concerns about the project. Your comments should focus on the potential environmental effects, reasonable alternatives, and measures to avoid or lessen environmental impacts. Your input will help the Commission staff determine what issues they need to evaluate in the EIS. To ensure that your comments are timely and properly recorded, please send your comments so that the Commission receives them in Washington, DC, on or before December 6, 2017.

If you sent comments on this project to the Commission before the opening of this docket on August 3, 2017, you will need to file those comments in Docket No. PF17-9-000 to ensure they are considered as part of this proceeding.

This notice is being sent to the Commission's current environmental mailing list for this project. State and local government representatives should notify their constituents of this planned project and encourage them to comment on their areas of concern.

A fact sheet prepared by the FERC entitled An Interstate Natural Gas Facility On My Land? What Do I Need To Know? is available for viewing on the FERC Web site (www.ferc.gov). This fact sheet addresses a number of typically asked questions, including how to participate in the Commission's proceedings.

Public Participation

For your convenience, there are four methods you can use to submit your comments to the Commission. The Commission will provide equal consideration to all comments received, whether filed in written form or provided verbally. The Commission encourages electronic filing of comments and has expert staff available to assist you at (202) 502-8258 or FercOnlineSupport@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on eRegister. If you are filing a comment on a particular project, please select “Comment on a Filing” as the filing type; or

(3) You can file a paper copy of your comments by mailing them to the following address. Be sure to reference the project docket number (PF17-9-000) with your submission: Kimberly D. Bose, Secretary, Federal Energy Regulatory Commission, 888 First Street NE., Room 1A, Washington, DC 20426.

(4) In lieu of sending written or electronic comments, the Commission invites you to attend the public scoping session its staff will conduct in the project area, scheduled as follows:

Date and time | Location
Thursday, November 16, 2017, 5:00 to 8:00 p.m | South LaFourche High School, 16911 E Main Street, Cut Off, LA 70345, 985-632-5721.

The primary goal of the scoping session is to have you identify the specific environmental issues and concerns that should be considered in the EIS to be prepared by FERC for this project. Individual verbal comments will be taken on a one-on-one basis with a court reporter. This format is designed to receive the maximum amount of verbal comments, in a convenient way during the timeframe allotted.

The scoping session is scheduled from 5:00 p.m. to 8:00 p.m. (Central time). You may arrive at any time after 4:30 p.m. If you wish to speak, the Commission staff will hand out numbers in the order of your arrival. Comments will be taken in the order of the numbers handed out until 8:00 p.m.; unless all numbers have been distributed before 7:00 p.m., and all individuals who wish to provide comments have had an opportunity to do so by that time, in which case staff may conclude the session at 7:00 p.m. Please see appendix 1 for additional information on the session format and conduct.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Your scoping comments will be recorded by the court reporter (with FERC staff or representative present) and become part of the public record for this proceeding. Transcripts will be publicly available on FERC's eLibrary system (see below for instructions on using eLibrary). If a significant number of people are interested in providing verbal comments in the one-on-one settings, a time limit of 5 minutes per speaker may be implemented.

There will not be a formal presentation by Commission staff when the session opens. Commission staff will be available throughout the session to answer your questions about the FERC's environmental review process. Representatives from Fourchon LNG will also be present to answer project-specific questions.

It is important to note that verbal comments hold the same weight as written or electronically submitted comments. Likewise, the session is not your only public input opportunity; please refer to the review process flow chart in appendix 2.

Summary of the Planned Project

Fourchon LNG plans to construct and operate a liquefied natural gas (LNG) terminal on Belle Pass, within Port Fourchon, Lafourche Parish, Louisiana. The terminal would be located on land leased from the Greater Laforche Port Commission. Fourchon LNG intends to use the terminal to liquefy, store, and deliver LNG to domestic LNG fueled marine vessels and LNG carriers for export to overseas markets. The terminal would have a peak capacity of five million metric tonnes of LNG per annum (MTPA). Fourchon LNG would also dredge a ship berth and turning basin at the terminal.

The Fourchon LNG Project would consist of the following facilities:

• Two 0.7-mile-long, parallel 16-inch-diameter natural gas receiving pipelines extending from existing pipelines operated by Kinetica Partners LLC to the terminal;

• five 1.0 MTPA gas pre-treatment trains;

• ten liquefaction trains, with a maximum LNG production capacity of approximately 0.5 MTPA each;

• two LNG storage tanks, each with a capacity of 88,000 cubic meters (m³);

• electric plant powered by a 20-megawatt gas turbine;

• boil-off gas handling system, utilities, and communications system; and

• one marine berth sized to accommodate LNG carriers up to about 180,000 m³ in capacity.

The general location of the project facilities is shown in appendix 3.

Land Requirements for Construction

Construction of the planned facilities would disturb about 55 acres of land for the planned upland terminal and pipelines. About 40.6 acres would be affected in the Belle Pass Channel for the creation of the turning basin. Following construction, Fourchon LNG would maintain about 53 acres for permanent operation of the upland terminal and pipeline rights-of-way. Temporary construction areas would be restored and revert to former uses.

The EIS Process

The National Environmental Policy Act (NEPA) requires the Commission to take into account the environmental impacts that could result from an action whenever it considers the issuance of an Order under Sections 3 or 7 of the Natural Gas Act for authorization to construct, install, and operate LNG facilities. NEPA also requires us ² to discover and address concerns the public may have about proposals. This process is referred to as scoping. The main goal of the scoping process is to focus the analysis in the EIS on the important environmental issues. By this notice, the Commission requests public comments on the scope of the issues to address in the EIS. We will consider all filed comments during the preparation of the EIS.

² We, us, and our refer to the environmental staff of the Commission's Office of Energy Projects.

In the EIS we will discuss impacts that could occur as a result of the construction and operation of the planned project under these general headings:

• Geology and soils;

• water resources and wetlands;

• vegetation and wildlife;

• cultural resources;

• socioeconomics;

• land use, recreation, and visual resources;

• air quality and noise;

• public safety; and

• cumulative impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before FERC receives an application. As part of our pre-filing review, we have begun to contact some other federal and state resources agencies to discuss their involvement in the scoping process and the preparation of the EIS.

With this notice, we are asking agencies with jurisdiction by law and/or special expertise with respect to the environmental issues related to this project to formally cooperate with us in the preparation of the EIS.³ Agencies that would like to request cooperating agency status should follow the instructions for filing comments provided under the Public Participation section of this notice. Currently, the U.S. Army Corps of Engineers, U.S. Coast Guard, and Lafourche Parish have expressed an interest in participating as cooperating agencies in the preparation of the EIS to satisfy their NEPA responsibilities related to this project.

³ The Council on Environmental Quality regulations implementing NEPA addresses cooperating agency responsibilities at Title 40, Code of Federal Regulations, Part 1501.6.

The EIS will present our independent analysis of the issues. We will publish and distribute the draft EIS for public comment. After the comment period, we will consider all timely comments and revise the document, as necessary, before issuing a final EIS. To ensure we have the opportunity to consider and address your comments, please carefully follow the instructions in the Public Participation section of this notice, above.

Consultations Under Section 106 of the National Historic Preservation Act

In accordance with the Advisory Council on Historic Preservation's regulations for Section 106 of the National Historic Preservation Act, we are using this notice to initiate consultations with the Louisiana State Historic Preservation Office (SHPO), and to solicit their views and those of other government agencies, interested Indian Tribes, and the public on the project's potential effects on historic properties.⁴ We will define the project-specific Area of Potential Effects (APE) in consultation with the SHPO as the project develops. On natural gas facility projects, the APE at a minimum encompasses all areas subject to ground disturbance. Our EIS for this project will document our findings on the impacts on historic properties and summarize the status of consultations under Section 106.

⁴ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities and the environmental information provided by Fourchon LNG. This preliminary list of issues may change based on your comments and our analysis.

• Evaluation of temporary and permanent impacts on wetlands and the development of appropriate mitigation;

• potential impacts to fish and wildlife habitat, including potential impacts to federally listed threatened and endangered species;

• potential visual effects of the aboveground facilities;

• potential impacts of the construction workforce on local housing, infrastructure, public services, transportation, and economy;

• impacts on air quality and noise associated with construction and operation of the Fourchon LNG Project; and

• public safety and hazards associated with LNG facilities.

Environmental Mailing List

The environmental mailing list compiled by Commission staff includes federal, state, and local government representatives and agencies; elected officials; environmental groups and non-government organizations; Native Americans and Indian Tribes; and local libraries and newspapers. This list also includes all affected landowners (as defined in the Commission's regulations) who are potential right-of-way grantors, whose property may be used temporarily for project purposes, or who are directly adjacent to facilities. We will update the environmental mailing list as the analysis proceeds to ensure that we send the information related to this environmental review to all individuals, organizations, and government entities interested in and/or potentially affected by the planned project, and anyone who submits comments on the project.

Copies of the completed draft EIS will be sent to the environmental mailing list for public review and comment. If you would prefer to receive a paper copy of the document instead of the compact disc version or would like to remove your name from the mailing list, please return the attached Information Request (appendix 4).

Becoming an Intervenor

Once Fourchon LNG files its application with the Commission, you may want to become an intervenor which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the e-filing link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on General Search and enter the docket number, excluding the last three digits in the Docket Number field (i.e., PF17-9). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public sessions or site visits will be posted on the Commission's calendar located at www.ferc.gov/EventCalendar/EventsList.aspx along with other related information.

Dated: October 30, 2017.
Nathaniel J. Davis, Sr.,
Deputy Secretary.

[FR Doc. 2017-23943 Filed 11-2-17; 8:45 am]

BILLING CODE 6717-01-P